DEPARTMENT OF LABOR

Employment and Training Administration

[NAFTA-05705]

Denso Sales California, Inc., Long Beach, CA; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 USC 2273), an investigation was initiated on November 10, 2001, in response to a petition filed by a company official on behalf of workers at Denso Sales California, Inc., Long Beach, California.

The petitioner has requested that the petition be withdrawn. Consequently, further investigation in this case would serve no purpose, and the investigation has been terminated.

Signed at Washington, DC, this 16th day of January, 2002.
Linda G. Poole,
Certifying Officer, Division of Trade Adjustment Assistance.

[FR Doc. 02-2328 Filed 1-30-02; 8:45 am]

BILLING CODE 4510-30-M